INTERNATIONAL TRADE COMMISSION

[Investigation No. 337-TA-872]

Certain Compact Fluorescent Reflector Lamps, Products Containing Same and Components Thereof; Notice of the Commission's Final Determination Finding No Violation of Section 337; Termination of the Investigation

AGENCY: U.S. International Trade Commission.

ACTION: Notice.

SUMMARY: Notice is hereby given that the U.S. International Trade Commission has found no violation of section 337 of the Tariff Act of 1930, as amended, 19 U.S.C. § 1337, in this investigation. The investigation is terminated.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 5, 2013, based on a complaint filed by Neptun Light, Inc., and Mr. Andrzej Bobel (together, “Neptun”) to consider alleged violations of section 337 by reason of infringement of claims 1, 2, 10, and 11 of U.S. Patent No. 7,053,540 (“the '540 patent”). 78 Fed. Reg. 14357-58. The Commission's notice of investigation named as respondents Maxlite, Inc. (“Maxlight”); Satco Products, Inc. (“Satco”); Litetronics International, Inc. (“Litetronics”) (together, “Respondents”); and Technical Consumer Products, Inc. (“TCP”). Id. at 14358. The Office of Unfair Import Investigations did not participate in this investigation. Id.

On June 10, 2013, Neptun and TCP moved to terminate the investigation with respect to TCP on the basis of a settlement agreement. The motion was granted on June 11, 2013. Order No. 20, not reviewed (July 8, 2013).

On February 3, 2014, the ALJ issued his final initial determination (“ID”), finding a violation of section 337. Specifically, the ALJ found that Maxlite and Satco violated section 337 with respect to claims 1, 2 and 11 of the '540 patent, and that Litetronics violated section 337 with respect to claims 1, 2 and 10 of the '540 patent. The ALJ recommended that a limited exclusion order issue against the infringing products of Maxlite, Satco, and Litetronics. He did not recommend the issuance of any cease and desist orders.

On February 18, 2014, Respondents petitioned for review of several of the ALJ's findings. Also on February 18, 2014, Neptun contingently petitioned for review of the ALJ's finding that Neptun had not made a sufficient showing on the economic prong of the domestic industry requirement through 19 U.S.C. 1337(a)(3)(C). On February 26, 2014, Neptun and Respondents opposed each other's petitions.

On April 8, 2014, the Commission determined to review the ALJ's findings on the economic prong of the domestic industry requirement, the claim construction of “mating opening,” and infringement. The Commission also sought briefing from the parties on seven issues, and received opening submissions on April 22, 2014, and responsive submissions on April 29, 2014.

Having examined the record of this investigation, including the ALJ's final ID and the submissions from the parties, the Commission has determined that Neptun has not proven a violation of section 337. Specifically, the Commission has determined to reject the ALJ's construction of “mating opening,” and to reverse the ALJ's findings of infringement. The Commission takes no position on whether Neptun satisfied the economic prong of the domestic industry requirement. See Beloit Corp. v. Valmet Oy, 742 F.2d 1421, 1423 (Fed. Cir. 1984). All other findings in the ID that are consistent with the Commission's determinations are affirmed. A Commission Opinion will issue shortly.

The authority for the Commission's determination is contained in section 337 of the Tariff Act of 1930, as amended (19 U.S.C. § 1337), and in Part 210 of the Commission's Rules of Practice and Procedure (19 CFR Part 210).

By order of the Commission.
Dated: June 3, 2014.
Lisa R. Barton,
Secretary to the Commission.

[FR Doc. 2014-13340 Filed 6-6-14; 8:45 am]

BILLING CODE 7020-02-P